DEPARTMENT OF THE INTERIOR

Bureau of Land Management

[MT-929-00-1910-HE-4677-UT940]

Montana: Filing of Amended Protraction Diagram Plats

AGENCY: Bureau of Land Management, Monatana State Office, Interior.

ACTION: Notice.

SUMMARY: The plats of the amended protraction diagrams accepted June 9, 2000, of the following described lands are scheduled to be officially filed in the Montana State Office, Billings, Montana, thirty (30) days from the date of this publication.

Tps. 9 and 10 N., Rs. 15, 16, and 17 W.

The plat, representing the Amended Protraction Diagram 19 Index of unsurveyed

Townships 9 and 10 North, Ranges 15, 16, and 17 West, Principal Meridian,

Montana, was accepted June 9, 2000.

T. 9 N., R. 15 W.

The plat, representing Amended Protraction Diagram 19 of unsurveyed Township 9 North, Range 15 West, Principal Meridian, Montana, was accepted June 9, 2000.

T. 9 N., R. 16 W.

The plat, representing Amended Protraction Diagram 19 of unsurveyed Township 9 North, Range 16 West, Principal Meridian, Montana, was accepted June 9, 2000.

T. 9 N., R. 17 W.

The plat, representing Amended Protraction Diagram 19 of unsurveyed Township 9 North, Range 17 West, Principal Meridian, Montana, was accepted June 9, 2000.

T. 10 N., R. 15 W.

The plat, representing Amended Protraction Diagram 19 of unsurveyed Township 10 North, Range 15 West, Principal Meridian, Montana, was accepted June 9, 2000.

T. 10 N., R. 17 W.

The plat, representing Amended Protraction Diagram 19 of unsurveyed Township 10 North, Range 17 West, Principal Meridian, Montana, was accepted June 9, 2000.

The plat, representing the Amended Protraction Diagram 22 Index of unsurveyed Townships 14, 15, and 16 North, Ranges 27, 28, and 29 West, Principal Meridian, Montana, was accepted June 9, 2000.

T. 14 N., R. 27 W.

The plat, representing Amended Protraction Diagram 22 of unsurveyed Township 14 North, Range 27 West, Principal Meridian, Montana, was accepted June 9, 2000.

T. 15 N., R. 27 W.

The plat, representing Amended Protraction Diagram 22 of unsurveyed Township 15 North, Range 27 West, Principal Meridian, Montana, was accepted June 9, 2000.

T. 16 N., R. 27 W.

The plat, representing Amended Protraction Diagram 22 of unsurveyed Township 16 North, Range 27 West, Principal Meridian, Montana, was accepted June 9, 2000.

T. 15 N., R. 28 W.

The plat, representing Amended Protraction Diagram 22 of unsurveyed Township 15 North, Range 28 West, Principal Meridian, Montana, was accepted June 9, 2000.

T. 16 N., R. 28 W.

The plat, representing Amended Protraction Diagram 22 of unsurveyed Township 16 North, Range 28 West, Principal Meridian, Montana, was accepted June 9, 2000.

T. 16 N., R. 29 W.

The plat, representing Amended Protraction Diagram 22 of unsurveyed Township 16 North, Range 29 West, Principal Meridian, Montana, was accepted June 9, 2000.

The amended protraction diagrams were prepared at the request of the U.S. Forest Service to accommodate Revision of Primary Base Quadrangle Maps for the Geometronics Service Center.

A copy of the preceding described plats of the amended protraction diagrams accepted June 9, 2000, will be immediately placed in the open files and will be available to the public as a matter of information.

If a protest against these amended protraction diagrams, accepted June 9, 2000, as shown on these plats, is received prior to the date of the official filings, the filings will be stayed pending consideration of the protests.

These particular plats of the amended protraction diagrams will not be officially filed until the day after all protests have been accepted or dismissed and become final or appeals from the dismissal affirmed.

FOR FURTHER INFORMATION CONTACT: Bureau of Land Management, 5001 Southgate Drive, P.O. Box 36800, Billings, Montana 59107-6800.

Dated: June 20, 2000.
Mark D. Dixon,
Acting Chief Cadastral Surveyor, Division of Resources.

[FR Doc. 00-16603 Filed 6-29-00; 8:45 am]

BILLING CODE 4310-DN-$$